Proclamation 8688 of June 2, 2011

National Oceans Month, 2011

By the President of the United States of America

A Proclamation

During National Oceans Month, we celebrate the value of our oceans to American life and recognize the critical role they continue to play in our economic progress, national security, and natural heritage. Waterborne commerce, sustainable commercial fisheries, recreational fishing, boating, tourism, and energy production are all able to contribute to job growth and strengthen our economy because of the bounty of our oceans, coasts, and Great Lakes.

Last year, I signed an Executive Order directing my Administration to implement our Nation’s first comprehensive National Policy for the Stewardship of the Ocean, Our Coasts, and the Great Lakes. This policy makes more effective use of Federal resources by addressing the most critical issues facing our oceans. It establishes a new approach to bringing together Federal, State, local, and tribal governments and all of the ocean’s users—from recreational and commercial fishermen, boaters, and industry, to environmental groups, scientists, and the public—to better plan for, manage, and sustain the myriad human uses that healthy oceans, coasts, and the Great Lakes support.

One year after the devastating BP Deepwater Horizon oil spill in the Gulf of Mexico, we remain committed to the full environmental and economic recovery of the region. My Administration is assessing and mitigating the damage that was caused by this tragedy, and restoring and strengthening the Gulf Coast and its communities. These efforts remind us of the responsibility we all share for our oceans and coasts, and the strong connection between the health of our natural resources and that of our communities and economy. While we embrace our oceans as crucial catalysts for trade, bountiful sources of food, and frontiers for renewable energy, we must also recommit to ensuring their safety and sustainability, and to being vigilant guardians of our coastal communities.

NOW, THEREFORE, I, BARACK OBAMA, President of the United States of America, by virtue of the authority vested in me by the Constitution and the laws of the United States, do hereby proclaim June 2011 as National Oceans Month. I call upon Americans to take action to protect, conserve, and restore our oceans, coasts, and Great Lakes.

IN WITNESS WHEREOF, I have hereunto set my hand this second day of June, in the year of our Lord two thousand eleven, and of the Independence of the United States of America the two hundred and thirty-fifth.

[FR Doc. 2011-14237

Filed 6-6-11; 11:15 am]

Billing code 3195-W1-P